DEPARTMENT OF COMMERCE

National Telecommunications and Information Administration

[Docket No. 000216044-0044-01]

Public Meeting, Child Online Protection Act Commission

AGENCY: National Telecommunications and Information Administration, Department of Commerce.

ACTION: Notice of public meeting.

SUMMARY: In October 1998, Congress passed the Child Online Protection Act (COPA), Pub. L. No. 105-277, 112 Stat. 2681-736 (1998), to restrict the commercial distribution of material that is harmful to minors on the Internet. The Act established a Commission to examine the extent to which current technological tools effectively help to protect children from inappropriate online content. Under the statute, the Speaker of the House and the Senator Majority Leader selected 16 members of the Commission from the public and private sector. In addition, the statute provided that representatives from the Federal Trade Commission, the Department of Justice, and the National Telecommunications and Information Administration will also serve on the Commission as “ex officio” members. The original COPA legislative language required the Commission to submit a report to Congress one year from the date of the enactment. Congress extended the report deadline to November 30, 2000 under the Intellectual Property and Communications Omnibus Reform Act of 1999, Pub. L. No. 106-113 § 1000(a)(9), 113 Stat 1501, 1536 (1999). The new legislation mandates that the Commission hold its first meeting no later than March 31, 2000.

DATES: The COPA Commission's first meeting will be held from 10:30 a.m.-12:30 p.m. on March 7, 2000, at the U.S. Department of Commerce, Room 4830, 1401 Constitution Avenue, N.W., Washington, D.C. 20230. The meeting will be open to the public.

FOR FURTHER INFORMATION CONTACT: Sallianne Fortunato, Office of Policy Analysis and Development, National Telecommunications and Information Administration; telephone (202) 482-1880; or electronic mail <sfortunato@ntia.doc.gov.>

Media inquiries should be directed to the Office of Public Affairs, National Telecommunications and Information Administration, at (202) 482-7002.

Public Participation: The COPA Commission Meeting is open to the public on a first-come, first-served basis and physically accessible to people with disabilities. To facilitate entry into the Department of Commerce building, please have a photo identification available and/or a U.S. Government building pass if applicable. Any member of the public wishing to attend and requiring special services, such as a sign language interpretation or other ancillary aids, should contact, Sallianne Fortunato, Office of Policy Analysis and Development, U.S. Department of Commerce, at least five (5) working days prior to the COPA Commission Meeting, at either telephone number (202) 482-1880 or electronic mail at <sfortunato@ntia.doc.gov.>

Kathy Smith,
Chief Counsel.

[FR Doc. 00-4147 Filed 2-18-00; 8:45 am]

BILLING CODE 3510-60-P